FEDERAL COMMUNICATIONS COMMISSION

47 CFR Part 36

[CC Docket 80-286; FCC 17-55]

Jurisdictional Separations and Referral to the Federal-State Joint Board; Correction

AGENCY: Federal Communications Commission.

ACTION: Final rule; correction.

SUMMARY: The Federal Communications Commission (FCC) is correcting a final rule that appeared in the Federal Register on June 2, 2017. The document extended the existing freeze of jurisdictional separations rules.

DATES: Effective July 14, 2017.

FOR FURTHER INFORMATION CONTACT: Rhonda Lien, Pricing Policy Division, Wireline Competition Bureau, at (202) 418-1540 or at Rhonda.Lien@fcc.gov.

SUPPLEMENTARY INFORMATION: In FR Doc. 2017-11418 appearing on page 25538 in the Federal Register of Friday, June 2, 2017, the following corrections are made:

§§ 36.3, 36.123, 36.124, 36.125, 36.126, 36.141, 36.142, 36.152, 36.154, 36.155, 36.156, 36.157, 36.191, 36.212, 36.214, 36.372, 36.374, 36.375, 36.377, 36.378, 36.379, 36.380, 36.381, and 36.382 [Corrected]

On page 25538, in the third column, in part 36, in amendment 2, the instruction “In 47 CFR part 36, remove the date “June 30, 2017” and add, in its place, the date “December 30, 2018” in the following places:” is corrected to read as “In 47 CFR part 36, remove the date “June 30, 2017” and add, in its place, the date “December 31, 2018” in the following places:”

Federal Communications Commission.
Katura Jackson,
Federal Register Liaison Officer, Office of the Secretary.

[FR Doc. 2017-14794 Filed 7-13-17; 8:45 am]

BILLING CODE 6712-01-P